NUCLEAR REGULATORY COMMISSION

[NRC-2014-0004]

Aging Management of Loss of Coating or Lining Integrity for Internal Coatings/Linings on In-Scope Piping, Piping Components, Heat Exchangers, and Tanks

AGENCY: Nuclear Regulatory Commission.

ACTION: Interim staff guidance; issuance.

SUMMARY: The U.S. Nuclear Regulatory Commission (NRC) is issuing the final License Renewal Interim Staff Guidance (LR-ISG), LR-ISG-2013-01, “Aging Management of Loss of Coating or Lining Integrity for Internal Coatings/Linings on In-Scope Piping, Piping Components, Heat Exchangers, and Tanks.” This LR-ISG provides changes to NRC staff-recommended aging management programs (AMPs), aging management review (AMR) items, and definitions in NUREG-1801, Revision 2, “Generic Aging Lessons Learned (GALL) Report,” and the NRC staff's Final Safety Analysis Report Supplement program descriptions and AMR items contained in NUREG-1800, Revision 2, “Standard Review Plan for Review of License Renewal Applications for Nuclear Power Plants” (SRP-LR).

ADDRESSES: Please refer to Docket ID NRC-2014-0004 when contacting the NRC about the availability of information regarding this document. You may obtain publicly-available information related to this document using any of the following methods:

• Federal Rulemaking Web site: Go to http://www.regulations.gov and search for Docket ID NRC-2014-0004. Address questions about NRC dockets to Carol Gallagher; telephone: 301-287-3422; email: Carol.Gallagher@nrc.gov. For technical questions, contact the individual listed in the FOR FURTHER INFORMATION CONTACT section of this document.

• NRC's Agencywide Document Access and Management System (ADAMS): You may obtain publicly-available documents online in the NRC Library at http://www.nrc.gov/reading-rm/doc-collections. For problems with ADAMS, please contact the NRC's Public Document Room (PDR) reference staff at 1-800-397-4209, 301-415-4737, or by email to pdr.resource@nrc.gov. The final LR-ISG-2013-01 is available electronically in ADAMS under Accession No. ML14225A059. The SRP-LR and GALL Report are available in ADAMS under Accession Nos. ML103490036 and ML103490041, respectively.

• NRC's PDR: You may examine and purchase copies of public documents at the NRC's PDR, Room O1-F21, One White Flint North, 11555 Rockville Pike, Rockville, Maryland 20852.

• NRC's Interim Staff Guidance Web site: LR-ISG documents are also available online under the “License Renewal” heading at http://www.nrc.gov/reading-rm/doc-collections/isg/license-renewal.html.

FOR FURTHER INFORMATION CONTACT: William Holston, Office of Nuclear Reactor Regulation, U.S. Nuclear Regulatory Commission, Washington, DC 20555-0001; telephone: 301-415-8573; email: William.Holston@nrc.gov.

SUPPLEMENTARY INFORMATION

Background

The NRC issues LR-ISGs to communicate insights and lessons learned and to address emergent issues not covered in license renewal guidance documents, such as the GALL Report and SRP-LR. In this way, the NRC staff and stakeholders may use the guidance in an LR-ISG document before it is incorporated into a formal license renewal guidance document revision. The NRC staff issues LR-ISGs in accordance with the LR-ISG Process, Revision 2 (ADAMS Accession No. ML100920158), for which a notice of availability was published in the Federal Register on June 22, 2010 (75 FR 35510).

The NRC staff has developed LR-ISG-2013-01 to address loss of coating or lining integrity for internal coatings applied to the internal surfaces of piping, piping components, heat exchangers, and tanks within the scope of license renewal. On January 10, 2014 (79 FR 1904), the NRC requested public comments on draft LR-ISG-2013-01 (ADAMS Accession No. ML13262A442).

These changes address new recommendations related to managing loss of coating integrity for coatings applied to the internal surfaces of piping, piping components, heat exchangers, and tanks within the scope of part 54 of Title 10 of the Code of Federal Regulations (10 CFR), “Requirements for Renewal of Operating Licenses for Nuclear Power Plants.” The NRC published Revision 2 of the SRP-LR and the GALL Report in December 2010, and they are available in ADAMS under Accession Nos. ML103490036 and ML103490041, respectively.

The NRC received comments from the Nuclear Energy Institute by letter dated February 24, 2014 (ADAMS Accession No. ML14058A181), and Daniel L. Cox, PE, by letter dated February 7, 2014 (ADAMS Accession No. ML14055A250). No other comments were submitted. The NRC considered these comments in developing the final LR-ISG. Detailed responses to the comments can be found in Appendix E of the final LR-ISG.

The final LR-ISG-2013-01 is approved for NRC staff and stakeholder use and will be incorporated into NRC's next formal license renewal guidance document revision.

Backfitting and Issue Finality

Issuance of this final LR-ISG does not constitute backfitting as defined in 10 CFR 50.109 (the Backfit Rule) and is not otherwise inconsistent with the issue finality provisions in 10 CFR Part 52, “Licenses, Certifications, and Approvals for Nuclear Power Plants.” As discussed in the “Backfitting and Issue Finality” section of the final LR-ISG-2013-01, the LR-ISG is directed to holders of operating licenses or combined licenses who are currently in the license renewal process. The LR-ISG is not directed to holders of operating licenses or combined licenses until they apply for license renewal. The LR-ISG is also not directed to licensees who already hold renewed operating or combined licenses.

Dated at Rockville, Maryland, this 6th day of November, 2014.
For the Nuclear Regulatory Commission.
Christopher G. Miller,
Director, Division of License Renewal, Office of Nuclear Reactor Regulation.

[FR Doc. 2014-27042 Filed 11-13-14; 8:45 am]

BILLING CODE 7590-01-P